DEPARTMENT OF ENERGY

National Nuclear Security Administration

Notice of Availability of the Report on the Secretary of Energy's Final Decision and Supporting Reasoning Regarding Defense Nuclear Facilities Safety Board Recommendation 2019-2, Safety of the Savannah River Site Tritium Facilities

AGENCY: National Nuclear Security Administration, Department of Energy.

ACTION: Notice of availability.

SUMMARY: The Department of Energy's National Nuclear Security Administration (NNSA) announces the availability of a Report on the Secretary of Energy's Final Decision and Supporting Reasoning Regarding Defense Nuclear Facilities Safety Board Recommendation 2019-2, Safety of the Savannah River Site Tritium Facilities. The Board issued Recommendation 2019-2 on June 11, 2019. The Recommendation focused on the Department of Energy (DOE) actions to improve the safety of the Tritium Facilities, upgrades to safety management programs, and the implementation of robust controls to prevent very high radiation doses, creating the potential for acute radiation sickness or fatality in a significant number of individuals. The Recommendation identified three specific sub-recommendations.

DATES: This notice will be published on June 11, 2020.

ADDRESSES: This report, together with its attachments, documents the Secretary of Energy's final decision and supporting reasoning regarding Defense Nuclear Facilities Safety Board (DNFSB or Board) Recommendation 2019-2, Safety of the Savannah River Site Tritium Facilities.

FOR FURTHER INFORMATION CONTACT: For further information about this Notice, please contact Ms. Nicole Nelson-Jean, Manager of the Savannah River Field Office, U.S. Department of Energy, National Nuclear Security Administration, Savannah River Field Office, P.O. Box A, Aiken, South Carolina 29802; phone: 803-208-3689; email to: Nicole.Nelson-Jean@nnsa.srs.gov.

SUPPLEMENTARY INFORMATION: As explained in detail in the Department's September 10, 2019, response to the Recommendation (the text of which is included as Attachment 1 to this report), the Department of Energy's National Nuclear Security Administration (DOE/NNSA) Administrator stated that DOE/NNSA's safety programs and policies, and their effective implementation by its well trained workforce, provide reasonable assurance of adequate protection of public health and safety. In addition, focused ongoing actions at the Tritium Facilities adequately address DNFSB concerns outlined in Recommendation 2019-2 and make the need for additional actions in response to the DNFSB Recommendation unnecessarily duplicative of that effort, and would therefore, detract from our continued progress. The Administrator's response, on behalf of the Secretary of Energy, constituted a full non-acceptance of the Recommendation.

Per 42 United States Code Section 2286d paragraph (e), Board Recommendations, when the Secretary of Energy does not fully accept a Recommendation, the Board must either reaffirm or revise the recommendation, and the Secretary of Energy must then consider the Board's action and make a final decision on whether to implement all or part of the Board's recommendations. Subject to subsection (i) of the section, the Secretary shall publish the final decision and the reasoning for such decision in the Federal Register and shall transmit to the Committees on Armed Services, Appropriations, and Energy and Commerce of the House of Representatives and the Committees on Armed Services, Appropriations, and Energy and Natural Resources of the Senate a written report containing that decision and reasoning.

The Board reaffirmed the Recommendation in a letter to the Secretary of Energy on December 5, 2019. In the letter, the Board provided the following context to support the Board's Recommendation:

“In rejecting Recommendation 2019-2, DOE presented several actions and plans in its September 10, 2019, letter and during the briefing on October 28, 2019, as addressing our concerns. We acknowledge that these ongoing and planned actions are aimed at addressing issues identified in Recommendation 2019-2. However, we are concerned these actions will not, in the near term or long term, fully address the high consequences to workers. Further, we do not agree that ongoing actions and plans obliviate the need for Recommendation 2019-2.”

The Board's December 5, 2019, letter does not provide any new substantive information and reaffirms its original recommendation without changing it. The Board's reaffirmation ignores the reasoning and analysis underlying the DOE/NNSA position and incorrectly asserts that the disagreement has to do with Board's authority rather than the Board's analysis.

In a letter dated January 3, 2020, the DOE/NNSA Administrator reaffirmed, on behalf of the Secretary, the Department's September 10, 2019, response as the Secretary's final decision regarding Recommendation 2019-2 (the text of which is included as Attachment 2 to the attached report).

The current Tritium Facilities' documented safety analysis contains appropriate safety significant controls, along with continuous improvement efforts and a new documented safety analysis. These efforts are nearing completion and will strengthen the safety posture at the Tritium Facilities. The planned Tritium Finishing Facility, included in the President's Fiscal Year 2020 Budget Request, will fundamentally improve safety at Savannah River Site (SRS), as DOE/NNSA moves from the H-Area Old Manufacturing (HAOM) Facility to this new seismically-qualified facility. Furthermore, the SRS Emergency Management Program has demonstrated steady and significant improvement over the past several years and continues to provide adequate protection to the workforce and the public surrounding the SRS.

DOE/NNSA has already initiated, and in some cases completed, the actions the DNFSB recommends; the SRS tritium operations are providing adequate protection of public and additionally, workforce safety. Many significant long-term projects to enhance safety in SRS tritium operations are nearing completion. Notably, the ongoing major construction project to replace the HAOM Tritium Facilities with new, modern, and robust facilities is being supported by the Department and Congress.

These activities are significant and are the proper implementation of DOE/NNSA safety improvements at SRS. Therefore, DOE/NNSA concludes that the most efficient, effective, and quickest way to improve safety at the SRS Tritium Facilities is to continue with the current approach and path forward. As previously noted, DOE/NNSA actions and plans that would have responded to this recommendation are complete or underway and therefore, are considered to have met the issues highlighted in the recommendation.

Signing Authority

This document of the Department of Energy was signed on April 6, 2020, by Lisa E. Gordon-Hagerty, Under Secretary for Nuclear Security Administrator, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 8, 2020.
Treena V. Garrett,
Federal Register Liaison Officer, U.S. Department of Energy.

[FR Doc. 2020-12638 Filed 6-10-20; 8:45 am]

BILLING CODE 6450-01-P